DEPARTMENT OF ENERGY

Federal Energy Regulatory Commission

[Docket No. EG02-168-000, et al.]

UEG Araucaria Ltda., et al.; Electric Rate and Corporate Regulation Filings

July 19, 2002.

The following filings have been made with the Commission. The filings are listed in ascending order within each docket classification.

1. UEG Araucaria Ltda.

[Docket No. EG02-168-000]

Take notice that on July 16, 2002, UEG Araucaria Ltda. filed with the Federal Energy Regulatory Commission an application for determination of exempt wholesale generator status pursuant to part 365 of the Commission's regulations.

Applicant, a Brazilian limited liability company, owns power generating facilities in Brazil. These facilities consist of an 480 MW electric generating facility and facilities necessary to make wholesale sales of electricity in Brazil.

Comment Date: August 6, 2002.

2. DTE Energy Company

[EC01-146-006]

Take notice that on July 16, 2002, International Transmission Company and DTE Energy Company tendered a filing in compliance with an order of the Federal Energy Regulatory Commission (Commission) issued on May 22, 2002.

Comment Date: August 6, 2002.

3. Pacific Gas and Electric Company

[Docket Nos. ER02-358-002, ER01-2998-002, and EL02-64-002]

Take notice that on July 15, 2002, Pacific Gas and Electric Company (PG&E) tendered for filing the Settlement Agreement pursuant to Rule 602 of the Federal Energy Regulatory Commission's (Commission) Rules of Practice and Procedure, 18 CFR 385.602. This Settlement Agreement will replace the Interconnection Agreement between PG&E and Northern California Power Agency and the Interconnection Agreement between PG&E and the City of Santa Clara, Silicon Valley Power on file with the Commission respectively as PG&E First Revised Rate Schedules FERC Nos. 142 and 85.

Copies of this filing have been served upon all members of the Official Service Lists of the above-mentioned dockets, the California Public Utilities Commission and the California Independent System Operator

Comment Date: August 5, 2002.

4. Niagara Mohawk Power Corporation

[Docket No. ER02-1266-002]

Take notice that on July 16, 2002, Niagara Mohawk Power Corporation, a National Grid Company (Niagara Mohawk) submitted its Compliance Filing in this proceeding in conformance with the Federal Energy Regulatory Commission's July 1, 2002 Order in Docket No. ER02-1266-001.

Comment Date: August 6, 2002.

5. Ameren Services Company

[Docket No. ER02-2236-000]

On July 9, 2002, the Commission issued a “Notice of Filing” in docket number ER02-2237-000 pertaining to an unexecuted Service Agreement for Long-Term Firm Point-To-Point Transmission Services between ASC and American Electric Power Services Corp. The Notice has been re-docketed to ER02-2236-000.

6. Ameren Services Company

[Docket No. ER02-2237-000]

On July 9, 2002, the Commission issued a “Notice of Filing” in docket number ER02-2236-000 pertaining to an unexecuted Network Operating Agreement and an unexecuted Service Agreement for Network Integration Transmission Service between Ameren Services and Southwestern Electric Cooperative, Inc. The Notice as been re-docketed to ER02-2237-000.

7. Niagara Mohawk Power Corporation

[Docket No. ER02-2322-000]

Take notice that on July 16, 2002, Niagara Mohawk Power Corporation, a National Grid Company (Niagara Mohawk) filed its Second Revised Schedule A amending its Rate Schedule FERC No. 204 to provide for the termination of transmission service under that agreement to the Power Authority of the State of New York (NYPA) for delivery to the Oneida-Madison Electric Cooperative, Inc. (Oneida-Madison) effective November 18, 1999, the date on which service to NYPA for delivery to Oneida-Madison converted to Niagara Mohawk's Rate Schedule FERC No. 312.

Comment Date: August 6, 2002.

8. Public Service Company of New Mexico

[Docket No. ER02-2323-000]

Take notice that on July 16, 2002, Public Service Company of New Mexico (PNM) submitted for filing a unilaterally executed copy of a service agreement with the California Independent System Operator dated July 12, 2002, for electric energy and/or capacity sales at negotiated market-based rates under PNM's Power and Energy Sales Tariff (FERC Electric Tariff, First Revised volume No. 3). PNM has requested an effective date of June 18, 2002 for the service agreement. PNM's filing is available for public inspection at its offices in Albuquerque, New Mexico.

Copies of this filing have been served upon the California Independent System Operator, the New Mexico Public Regulation Commission, and the New Mexico Attorney General.

Comment Date: August 6, 2002.

9. Ameren Energy, Inc. on behalf of Union Electric Company d/b/a AmerenUE and Ameren Energy Generating Company

[Docket No. ER02-2325-000]

Take notice that on July 16, 2002, Ameren Energy, Inc. (Ameren Energy), on behalf of Union Electric Company d/b/a AmerenUE and Ameren Energy Generating Company (collectively, the Ameren Parties), pursuant to section 205 of the Federal Power Act, 16 U.S.C. 824d, and the market rate authority granted to the Ameren Parties, submitted for filing umbrella power sales service agreements under the Ameren Parties' market rate authorizations entered into with Southern Illinois Power Cooperative.

Ameren Energy seeks Commission acceptance of these service agreements effective July 3, 2002. Copies of this filing were served on the public utilities commissions of Illinois and Missouri and the counterparty.

Comment Date: August 6, 2002.

10. Ameren Energy, Inc. on behalf of Union Electric Company d/b/a AmerenUE and Ameren Energy Generating Company

[Docket No. ER02-2326-000]

Take notice that on July 16, 2002, Ameren Energy, Inc. (Ameren Energy), on behalf of Union Electric Company d/b/a AmerenUE and Ameren Energy Generating Company (collectively, the Ameren Parties), pursuant to section 205 of the Federal Power Act, and the market rate authority granted to the Ameren Parties, submitted for filing umbrella power sales service agreements under the Ameren Parties' market rate authorizations entered into with Westar Energy, Inc. Ameren Energy seeks Federal Energy Regulatory Commission acceptance of these service agreements effective June 26, 2002.

Copies of this filing were served on the public utilities commissions of Illinois and Missouri and counterparty.

Comment Date: August 6, 2002.

11. Xcel Energy Services, Inc. Northern States Power Company

[Docket No. ER02-2327-000]

Take notice that on July 16, 2002, Xcel Energy Services, Inc. (XES), on behalf of Northern States Power Company (NSP) submitted for filing with the Federal Energy Regulatory Commission (Commission) the First Revision of: The Letter Agreement extending the Distribution Facilities Agreement; and the Letter Agreement extending the Interim Wholesale Rate between Northern States Power and the City of Shakopee, Minnesota.

NSP requests the letter agreements be accepted for filing effective January 1, 2002, and requests waiver of the Commission's notice requirements in order for the Agreements to be accepted for filing on the date requested.

Comment Date: August 6, 2002.

12. Arizona Public Service Company

[Docket No. ER02-2328-000]

Take notice that on July 16, 2002, Arizona Public Service Company (APS) tendered for filing two Service Agreements to provide point-to-point transmission service to Public Service Company of New Mexico, Wholesale Power Marketing under APS” Open Access Transmission Tariff.

A copy of this filing has been served on Public Service Company of New Mexico, Wholesale Power Marketing, New Mexico Public Regulation Commission, and the Arizona Corporation Commission.

Comment Date: August 6, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-18902 Filed 7-25-02; 8:45 am]

BILLING CODE 6717-01-P